DEPARTMENT OF TRANSPORTATION

Federal Aviation Administration

[Policy Statement No. ANM-115-05-005]

Policy Statement on Acceptance of a Component Test Method To Demonstrate

AGENCY: Federal Aviation Administration (FAA), DOT.

ACTION: Notice of final policy.

SUMMARY: The Federal Aviation Administration (FAA) announces the availability of final policy on a component method for demonstrating that a seat with a replacement bottom cushion complies with § 25.562(c)(2). This policy addresses non-flotation monolithic (single layer) cushions.

DATES: This final policy was issued by the Transport Airplane Directorate on August 9, 2005.

FOR FURTHER INFORMATION CONTACT: Michael T. Thompson, Federal Aviation Administration, Transport Airplane Directorate, Transport Standards Staff, Standardization Branch, ANM-113, 1601 Lind Avenue, SW., Renton, WA 98055-4056; telephone (425) 227-1157; fax (425) 227-1232; e-mail; Michael.t.thompson@faa.gov.

SUPPLEMENTARY INFORMATION:

Disposition of Comments

A notice of proposed policy; request for comments, was published in the Federal Register on April 11, 2005 (70 FR 18453). Three commenters responded to the request for comments.

Background

Historically, substantiating changes to the bottom cushion of a seat certificated to § 25.562 that could affect the lumbar load typically required a full-scale 14g downward dynamic test using the actual seat. Industry desired a quicker and less expensive method in lieu of full scale testing. As a result, the FAA funded a research project to develop a component test methodology for demonstrating that a replacement bottom cushion would not produce a higher lumbar load than a certificated bottom cushion for a seat certificated to § 25.562. This research resulted in an acceptable methodology that is documented in DOT/FAA/AR-05/5,I “Development and Validation of an Aircraft Seat Cushion Component Test—Volume I,” dated March 2005. This method provides a simplified means of demonstrating compliance with § 25.562 and will streamline the seat certification process by reducing the costs and time associated with seat certification.

Seat bottom cushion changes must be evaluated to determine that compliance with § 25.562 is maintained when considering both the 14g downward test and the 16g longitudinal test specified in the regulation. This policy addresses demonstrating compliance with the lumbar load criteria of § 25.562(c)(2) that is determined in a 14g downward test.

The final policy memorandum as well as the disposition of public comments received is available on the Internet at the following address: http://www.airweb.faa.gov/rgl. If you do not have access to the Internet, you can obtain a copy of the final policy memorandum by contacting the person listed under FOR FURTHER INFORMATION CONTACT.

Issued in Renton, Washington, on August 9, 2005.
Ali Bahrami,
Manager, Transport Airplane Directorate, Aircraft Certification Service.

[FR Doc. 05-16410 Filed 8-17-05; 8:45 am]

BILLING CODE 4910-13-M